DEPARTMENT OF COMMERCE

International Trade Administration

[A-447-801]

Notice of Initiation of a Changed Circumstances Review of the Antidumping Duty Order on Solid Urea From Estonia

AGENCY: Import Administration, International Trade Administration, Department of Commerce.

ACTION: Notice of initiation and request for comments.

DATES: October 16, 2002.

FOR FURTHER INFORMATION CONTACT: George Smolik, Office of Policy, Import Administration, International Trade Administration, U.S. Department of Commerce, 14th Street and Constitution Avenue, NW., Washington, DC 20230; telephone: (202) 482-1843.

SUMMARY: The Department of Commerce is initiating a changed circumstances review in order to examine whether Estonia is still a non-market economy country for purposes of the antidumping and countervailing duty laws.

The Applicable Statute

Unless otherwise indicated, all citations to the Tariff Act of 1930, as amended (“the Act”) are references to the provisions effective January 1, 1995, the effective date of the amendments made to the Act by the Uruguay Round Agreements Act. In addition, unless otherwise indicated, all citations to the Department of Commerce's (“Department”) regulations are to 19 CFR part 351 (2002).

Background

The Department received a letter from the Republic of Estonia Ministry of Foreign Affairs dated July 10, 2002, requesting a review of Estonia's status as a non-market economy (“NME”) country. In the letter, the Government of Estonia submitted documentation supporting its request for market economy status. The Department subsequently received a letter from the Ambassador of Estonia to the United States dated September 20, 2002, requesting a review of Estonia's non-market economy status under a changed circumstances review of the antidumping duty order on solid urea from Estonia.

In response to this latter request, the Department is initiating a changed circumstances review in order to examine whether Estonia is still a non-market economy country for purposes of the antidumping and countervailing duty laws, pursuant to sections 751(b) and 771(18)(C)(ii) of the Act.

The Department has treated Estonia as an NME country in all past antidumping duty investigations and administrative reviews. See, e.g., Urea From the Union of Soviet Socialist Republics; Final Determination of Sales at Less Than Fair Value, 52 FR 19557 (May 26, 1987); and, Solid Urea from the Union of Soviet Socialist Republics—Transfer of the Antidumping Duty Order on Solid Urea From the Union of Soviet Socialist Republics to the Commonwealth of Independent States and the Baltic States and Opportunity to Comment, 57 FR 28828 (June 29, 1992. A designation as an NME remains in effect until it is revoked by the Department. See section 771(18)(C)(i) of the Act.

Opportunity for Public Comment

As part of this inquiry to determine whether to revoke Estonia's NME status, the Department is interested in receiving public comment with respect to Estonia on the factors listed in section 771(18)(B) of the Act, which the Department must take into account in making a market/non-market economy determination: (i) The extent to which the currency of the foreign country is convertible into the currency of other countries; (ii) the extent to which wage rates in the foreign country are determined by free bargaining between labor and management; (iii) the extent to which joint ventures or other investments by firms of other foreign countries are permitted in the foreign country; (iv) the extent of government ownership or control of the means of production; (v) the extent of government control over allocation of resources and over price and output decisions of enterprises; and (vi) such other factors as the administering authority considers appropriate.

Comments—Deadline, Format, and Number of Copies

The deadline for submission of comments will be 45 days after the date of publication of this notice in the Federal Register. All comments should be filed at the Department of Commerce Central Records Unit located at the address listed below. Rebuttal comments may be submitted up to 30 days after the date initial comments are due. Each person submitting comments should include his or her name and address, and give reasons for any recommendation. To facilitate their consideration by the Department, comments should be submitted in the following format: (1) Begin each comment on a separate page; (2) concisely state the issue identified and discussed in the comment and include any supporting documentation in exhibits or appendices; (3) provide a brief summary of the comment (a maximum of 3 sentences) and label this section “summary of comment;” (4) provide an index or table of contents; and (5) include the case number A-447-801 in the top right hand corner of the submission. To simplify the processing and distribution of comments, the Department requires the submission of documents in electronic form accompanied by an original and six copies in paper form. We require that documents filed in electronic form be on DOS formatted 3.5' diskettes and prepared in either WordPerfect 9 format or a format that the WordPerfect program can convert and import into WordPerfect 9. Please submit comments in separate files on the diskette. Comments received on diskette will be made available to the public on the Internet at Import Administration's Web site, http://ia.ita.doc.gov. Paper copies will be available for reading and photocopying in the Central Records Unit, Room B-099, U.S. Department of Commerce, Pennsylvania Avenue and 14th Street, NW., Washington, DC 20230. Any questions concerning file formatting, document conversion, access on the Internet, or other file requirements should be addressed to Andrew Lee Beller, Import Administration Webmaster, (202) 482-0866.

Hearing

After reviewing all comments and rebuttal comments, the Department will determine whether a public hearing on the NME country issue is warranted, if one is requested in the initial or rebuttal comments on this issue. If the Department determines that a hearing is warranted, the Department will announce a place and time for that hearing.

This determination is issued and published in accordance with sections 751(b) and 771(18)(C)(ii).

Dated: October 8, 2002.
Faryar Shirzad,
Assistant Secretary for Import Administration.

[FR Doc. 02-26312 Filed 10-15-02; 8:45 am]

BILLING CODE 3510-DS-P